DEPARTMENT OF LABOR

Office of the Secretary

Agency Information Collection Activities; Submission for OMB Review; Comment Request; Evaluation of the Linking to Employment Activities Pre-Release (LEAP) Program Grants Program

AGENCY: Office of the Assistant Secretary for Policy, Chief Evaluation Office, Department of Labor.

ACTION: Notice.

SUMMARY: The Department of Labor (DOL), as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. Currently, DOL is soliciting comments concerning the collection of data about the Evaluation of the Linking to Employment Activities Pre-release (LEAP) Program grants program [FOA-ETA-15-13]. A copy of the proposed Information Collection Request (ICR) can be obtained by contacting the office listed in the addressee section of this notice.

DATES: Written comments must be submitted to the office listed in the addressee section below on or before February 22, 2016.

ADDRESSES: You may submit comments by either one of the following methods: Email: ChiefEvaluationOffice@dol.gov; Mail or Courier: Megan Lizik, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Megan Lizik by email at ChiefEvaluationOffice@dol.gov.

SUPPLEMENTARY INFORMATION:

I. Background: The information collection activities described in this notice will provide data for an implementation evaluation of the Linking to Employment Activities Pre-Release (LEAP) program. The U.S. Department of Labor (DOL) has provided $10 million to 20 grantees to develop programs that strengthen ties between the public workforce system and local correctional facilities by establishing satellite American Job Centers (AJCs) in local jails to bridge the gap between pre and post release employment services.

This information collection covers the implementation study which will address four main research questions: (1) What are the key program elements of each of the 20 grantee sites, and what practices appear promising in addressing the unique challenges of individuals reentering the community? (2) What factors influence LEAP program implementation, and what steps are taken to ensure sustainability? (3) How and why is there variation in the structure, partnerships, and implementation of the grants across grantees, and how does this appear to affect programs' ability to increase employment and reduce recidivism among participants? and (4) What are the perceptions of facility- and community-based staff, stakeholders, partners, and participants regarding LEAP programs and services?

This Federal Register Notice provides the opportunity to comment on three proposed data collection instruments that will be used in the LEAP implementation evaluation:

* Site visit protocols. The site visits will occur in two rounds, with the first in spring/summer of 2016 and the second in spring of 2017. These visits will last two days each and will involve one-on-one semi-structured interviews with facility—and community-based program administrators, the focus groups discussed below, as well as observations of program activities and reviews of a small sample of case files. The observations and case file reviews will not involve additional burden.

* Focus group protocols. During each implementation study visit, the evaluation team will conduct three focus groups per site. In the first implementation study visit, separate focus groups will be conducted with facility-based LEAP participants receiving pre-release services, LEAP frontline staff, and representatives from LEAP partner organizations. During the second implementation study visit, focus groups will be conducted with facility-based LEAP participants receiving pre-release services, community-based LEAP participants receiving post-release services, and LEAP frontline staff. Focus groups that are held outside of the jail facilities will be digitally recorded for internal use only by the evaluation team. The team will seek approval from the jail facilities in the study to allow recording of site visits conducted in the jails, but anticipate that it will not be allowed in most of the sites.

* Respondent information forms. Before the start of the focus groups, each staff or program participant respondent will complete a brief questionnaire to provide demographic characteristics and other relevant information that will aid in the interpretation and comparison of focus group findings across sites and time periods.

At this time, clearance is requested for the three data collection activities mentioned above. Should an impact evaluation be deemed feasible for the LEAP Grant Program, a separate package will be submitted containing and requesting clearance of the impact evaluation materials.

II. Desired Focus of Comments: Currently, the Department of Labor is soliciting comments concerning the above data collection for the LEAP program. DOL is particularly interested in comments that do the following:

* evaluate whether the proposed collection of information is necessary for the proper performance functions of the agency, including whether the information will have practical utility;

* evaluate the accuracy of the agency's burden estimate of the proposed information collection, including the validity of the methodology and assumptions;

* enhance the quality, utility, and clarity of the information to be collected; and

* minimize the burden of the collection of information on those who are to respond, including through the use of appropriate automated, electronic, mechanical, or other technological collection techniques or other forms of information technology—for example, permitting electronic submissions of responses.

III. Current Actions: At this time, the Department of Labor is requesting clearance for the implementation site visit protocols, the focus group protocols, and the focus group respondent information forms.

Type of Review: New information collection request.

OMB Control Number: 1205-0NEW.

Affected Public: LEAP program staff, participants and partner agencies.

Estimated Total Burden Hours
Respondents | Estimated total respondents | Number of responses per respondent | Average burden time per response (hours) | Estimated total burden (hours)
Site Visit Semi-structured Interviews
Round 1
LEAP Program Administrators | 100 | 1 | 1.5 | 150
Round 2
LEAP Program Administrators | 100 | 1 | 1.5 | 150
Respondent Information Forms (RIFs) and Focus Groups
Round 1
LEAP Front-line Staff
RIF | 140 | 1 | .12 | 16
Focus group | 140 | 1 | 1.5 | 210
LEAP pre-release participants
RIF | 100 | 1 | .12 | 12
Focus group | 100 | 1 | 1 | 100
Partner Staff
RIF | 140 | 1 | .12 | 16
Focus group | 140 | 1 | 1 | 140
Round 2
LEAP Front-line Staff
RIF | 140 | 1 | .12 | 16
Focus group | 140 | 1 | 1.5 | 210
LEAP pre-release participants
RIF | 100 | 1 | .12 | 12
Focus group | 100 | 1 | 1 | 100
LEAP post-release participants
RIF | 140 | 1 | .12 | 16
Focus group | 140 | 1 | 1 | 140
Total | 1,720 | 1 | - | 1,229

Comments submitted in response to this request will be summarized and/or included in the request for Office of Management and Budget approval of the information collection request; they will also become a matter of public record.

Dated: December 16, 2015.
Sharon Block,
Principal Deputy Assistant Secretary for Policy, U.S. Department of Labor.

[FR Doc. 2015-32317 Filed 12-22-15; 8:45 am]

BILLING CODE 4510-HX-P